OFFICE OF PERSONNEL MANAGEMENT

5 CFR Part 315

RIN 3206-AM36

Noncompetitive Appointment of Certain Military Spouses

AGENCY: U.S. Office of Personnel Management.

ACTION: Proposed rule with request for comments.

SUMMARY: The U.S. Office of Personnel Management (OPM) is issuing proposed regulations to eliminate the 2-year eligibility limitation for noncompetitive appointment for spouses of certain deceased or 100 percent disabled veterans. OPM is removing this restriction to provide spouses of certain deceased or 100 percent disabled veterans with unlimited eligibility for noncompetitive appointment. The intended effect of this change is to further facilitate the entry of these military spouses into the Federal civil service.

DATES: Comments must be received on or before May 9, 2011.

ADDRESSES: You may submit comments, which are identified by RIN 3206-AM36, by any of the following methods:

• E-mail: employ@opm.gov. Include “RIN 3206-AM36, Career and Career-Conditional Employment” in the subject line of the message.

• Fax: (202) 606-2329.

• Mail: Angela Bailey, Deputy Associate Director for Employee Services, U.S. Office of Personnel Management, Room 6566, 1900 E Street, NW., Washington, DC 20415-9700.

FOR FURTHER INFORMATION CONTACT: Michelle Glynn, 202-606-1571, Fax: 202-606-2329 by TDD: 202-418-3134, or e-mail: michelle.glynn@opm.gov.

SUPPLEMENTARY INFORMATION: On September 25, 2008, the President issued Executive Order (E.O.) 13473 allowing agencies to make noncompetitive appointments of spouses of certain members of the armed forces. OPM implemented this E.O. via final regulations which were published in the Federal Register (FR) on August 12, 2009 (74 FR 40471). OPM's implementing rules established a noncompetitive hiring authority for certain military spouses. Under this hiring authority, eligible spouses include, subject to other criteria specified in the final rule, the following categories of military spouses: Those who are relocating with their service member spouse as a result of permanent change of station (PCS) orders, spouses of service members who incurred a 100 percent disability because of the service member's active duty service, and the un-remarried widow or widower of a service member killed while on active duty. A spouse remains eligible for a noncompetitive appointment for a maximum of 2 years from the date of: (a) The service member's orders authorizing a permanent change of station; (b) the documentation showing the service member is 100 percent disabled; or (c) the documentation showing the service member was killed while on active duty.

Paragraph (d) of proposed § 315.612 provides conditions under which an agency may appoint a military spouse noncompetitively under this section. In this paragraph, OPM is proposing to eliminate the 2-year eligibility window for spouses of service members who incurred a 100 percent disability because of the service member's active duty service, and spouses of service members killed while on active duty. This paragraph extends without time limitation the eligibility of these spouses from the date of documentation showing the service member is 100 percent disabled because of active duty service, or documentation showing the service member was killed while on active duty.

On February 4, 2011, the Department of the Navy presented OPM with the findings of a Spouse Employment and Empowerment Integrated Process Team that was initiated by the Chairman of the Joint Chiefs of Staff. The Integrated Process Team found that spouses of service members who were killed or who became 100 percent disabled while on active duty had been unable to make use of the noncompetitive hiring authority within the 2-year eligibility period prescribed by regulation, due to their bereavement, their convalescent care responsibilities, their dependant care responsibilities, or their need to undergo education or training. OPM believes that it is inconsistent with the purpose of E.O. 13473 to deny a military spouse the opportunity to make use of the noncompetitive hiring authority when the very condition that gives rise to eligibility—the death or disability of a service member—also places unique burdens on the service member's spouse that delay his or her workforce reentry.

For this reason, OPM is proposing to eliminate the 2-year eligibility period for noncompetitive appointment for spouses of service members who incurred a 100 percent disability because of the service member's active duty service, and for spouses of service members killed while on active duty. The 2-year eligibility period will remain in effect for spouses whose eligibility is based on relocating with their service member spouse as a result of PCS orders.

E.O. 12866 and E.O. 13563 Regulatory Review

This rule has been reviewed by the Office of Management and Budget in accordance with Executive Order 12866 and Executive Order 13563.

Regulatory Flexibility Act

I certify that this regulation will not have a significant economic impact on a substantial number of small entities because it affects only Federal agencies and employees.

List of Subjects in 5 CFR Part 315

Government employees.

U.S. Office of Personnel Management.
John Berry,
Director.

Accordingly, OPM is proposing to amend 5 CFR part 315 as follows:

PART 315—CAREER AND CAREER-CONDITIONAL EMPLOYMENT

1. The authority citation for part 315 continues to read as follows:

Authority: 5 U.S.C. 1302, 3301, and 3302; E.O. 10577, 3 CFR, 1954-1958 Comp. p. 218, unless otherwise noted; and E.O. 13162. Secs. 315.601 and 315.609 also issued under 22 U.S.C. 3651 and 3652. Secs. 315.602 and 315.604 also issued under 5 U.S.C. 1104. Sec. 315.603 also issued under 5 U.S.C. 8151. Sec. 315.605 also issued under E.O. 12034, 3 CFR, 1978 Comp. p.111. Sec. 315.606 also issued under E.O. 11219, 3 CFR, 1964-1965 Comp. p. 303. Sec. 315.607 also issued under 22 U.S.C. 2560. Sec. 315.608 also issued under E.O. 12721, 3 CFR, 1990 Comp. p. 293. Sec. 315.610 also issued under 5 U.S.C. 3304(c). Sec. 315.611 also issued under 5 U.S.C. 3304(f). Sec. 315.612 also under E.O. 13473. Sec. 315.708 also issued under E.O. 13318, 3 CFR, 2004 Comp. p. 265. Sec. 315.710 also issued under E.O. 12596, 3 CFR, 1978 Comp. p. 264.

Subpart F—Career or Career Conditional Appointment Under Special Authorities

2. In § 315.612, revise paragraph (d)(1) to read as follows:

§ 315.612 Noncompetitive appointment of certain military spouses.

* * * * *

(d) Conditions. (1) In accordance with the provisions of this section, spouses are eligible for noncompetitive appointment:

(i) For a maximum of 2 years from the date of the service member's permanent change of station orders;

(ii) From the date of documentation verifying the member of the armed forces is 100 percent disabled; or

(iii) From the date of documentation verifying the member of the armed forces was killed while on active duty.

* * * * *

[FR Doc. 2011-5459 Filed 3-9-11; 8:45 am]

BILLING CODE 6325-39-P